DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129. Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Impact of Accreditation on BPHC-Supported Health Centers—NEW

The Bureau of Primary Health Care (BPHC) will conduct an evaluation of the impact of JCAHO accreditation on BPHC-supported health centers. This study will assess the impact in health centers that are accredited by the Joint Commission and those that are not, including migrant health centers, school-based health centers, health centers for the homeless and public housing health centers. This study aims to address a key purpose of the BPHC/JCAHO Accreditation initiative: How effective is accreditation in providing a structure for health centers to integrate ongoing quality improvement into their daily operations. The assessment will be conducted by administering a mailed questionnaire to all health centers that were funded by HRSA/BPHC as of September 30, 2002.

Estimated Burden Hours
Survey | Number of respondents | Responses per respondents | Total responses | Hours per responses | Total burden hours
Assessment of Quality Structure in Health Centers | 843 | 1 | 843 | .45 | 380

Send comments to Susan G. Queen, Ph.D., HRSA Reports Clearance Officer, Room 14-33, Parklawn Building, 5600 Fishers Lane, Rockville, MD 20857. Written comments should be received within 60 days of this notice.

Dated: March 18, 2004.
Tina M. Cheatham,
Director, Division of Policy Review and Coordination.

[FR Doc. 04-6635 Filed 3-24-04; 8:45 am]

BILLING CODE 4165-15-P